DEPARTMENT OF TRANSPORTATION

National Highway Traffic Safety Administration

[Docket No. NHTSA 2006-24323; Notice 2]

Volkswagen of America Inc., Grant of Petition for Decision of Inconsequential Noncompliance

Volkswagen of America Inc. (Volkswagen) has determined that the designated seating capacity placards on certain vehicles that it produced in 2005 and 2006 do not comply with S4.3(b) of 49 CFR 571.110, Federal Motor Vehicle Safety Standard (FMVSS) No. 110, “Tire selection and rims.” Pursuant to 49 U.S.C. 30118(d) and 30120(h), Volkswagen has petitioned for a determination that this noncompliance is inconsequential to motor vehicle safety and has filed an appropriate report pursuant to 49 CFR Part 573, “Defect and Noncompliance Reports.” Notice of receipt of a petition was published, with a 30-day comment period, on April 7, 2006, in the Federal Register (71 FR 17953). NHTSA received no comments.

Affected are a total of approximately 39 Phaeton vehicles produced between May 22, 2005 and March 8, 2006. S4.3(b) of FMVSS No. 110 requires that a “placard, permanently affixed to the glove compartment door or an equally accessible location, shall display the * * * [d]esignated seating capacity.” The noncompliant vehicles have placards stating that the seating capacity is five when in fact the seating capacity is four. Volkswagen has corrected the problem that caused these errors so that they will not be repeated in future production.

Volkswagen believes that the noncompliance is inconsequential to motor vehicle safety and that no corrective action is warranted. Volkswagen states that consumers will look at the number of seats and safety belts to determine the vehicle's capacity. Volkswagen explains that although the rear seat capacity on the placard states three, the vehicles have only two rear seats, and the space that would be occupied by a middle-occupant position contains a center console.

Volkswagen further states that, because the rear seats do not accommodate three people, the seating capacity labeling error has no impact on the vehicle capacity weight, recommended cold tire inflation pressure, or recommended size designation information. Also, Volkswagen says that it is impossible to overload the rear seat by relying on the incorrect designated seating capacity information.

NHTSA agrees with Volkswagen that the noncompliance is inconsequential to motor vehicle safety. Although the placard states a rear seat capacity of three, a consumer can easily determine the seating capacity by looking at the number of rear seats and occupant restraints, which clearly indicate a seating capacity of two with a center console. Further, the mislabeling does not affect the vehicle capacity weight, recommended cold tire inflation pressure, recommended tire size designation, or the potential to overload the rear seat.

In consideration of the foregoing, NHTSA has decided that the petitioner has met its burden of persuasion that the noncompliance described is inconsequential to motor vehicle safety. Accordingly, Volkswagen's petition is granted and the petitioner is exempted from the obligation of providing notification of, and a remedy for, the noncompliance.

Authority: (49 U.S.C. 30118, 30120; delegations of authority at CFR 1.50 and 501.8)

Issued on: June 5, 2006.
Daniel C. Smith,
Associate Administrator for Enforcement.

[FR Doc. E6-8979 Filed 6-8-06; 8:45 am]

BILLING CODE 4910-59-P